ENVIRONMENTAL PROTECTION AGENCY

[FRL-7422-8]

Clean Water Act Section 303(d): Availability of 12 Modified Total Maximum Daily Loads (TMDLs)

AGENCY: Environmental Protection Agency (EPA).

ACTION: Notice of availability.

SUMMARY: This notice announces the availability for comment of the administrative record file for 12 modified TMDLs and the calculations for these TMDLs prepared by EPA Region 6 for waters listed in the Mermentau and Vermilion/Teche river basins, under section 303(d) of the Clean Water Act (CWA). These TMDLs were completed in response to the lawsuit styled Sierra Club, et al. v. Clifford et al., No. 96-0527, (E.D. La.).

DATES: Comments must be submitted in writing to EPA on or before January 16, 2003.

ADDRESSES: Comments on the 12 modified TMDLs should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs are available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. EPA originally established these TMDLs pursuant to a consent decree entered in this lawsuit. EPA is now modifying these TMDLs.

EPA Seeks Comments on 12 Modified TMDLs

By this notice EPA is seeking comment on the following 12 modified TMDLs for waters located within the Mermentau and Vermilion/Teche river basins:

Subsegment | Waterbody name | Pollutant
050102 | Bayou Joe Marcel | Pathogen indicators.
060204 | Bayou Courtableau—Origin to West Atchafalaya Borrow Pit Canal | Pathogen indicators.
060212 | Chatlin Lake Canal and Bayou Dulac | Pathogen indicators.
060701 | Tete Bayou | Pathogen indicators.
060703 | Bayou Portage | Pathogen indicators.
060901 | Bayou Petite Anse | Pathogen indicators.
060909 | Lake Peigneur | Pathogen indicators.
060911 | Dugas Canal | Pathogen indicators.
060204 | Bayou Courtableau—Origin to West Atchafalaya Borrow Pit Canal | Sulfates.
050201 | Bayou Plaquemine Brule—Headwaters to Bayou Des Cannes | TDS.
050501 | Bayou Queue de Tortue—Headwaters to Mermentau River | TDS.
060208 | Bayou Boeuf—Headwaters to Bayou Courtableau | TDS.

EPA previously requested the public to provide EPA with any significant data or information that might impact the original 12 TMDLs in Federal Register Notices: Volume 65, Number 173, pages 54032-54034 (September 6, 2000) and Volume 65, Number 196, page 60189 (October 10, 2000).

EPA now requests that the public provide any water quality related data and information that may be relevant to the calculations for these 12 modified TMDLs. EPA will review all data and information submitted during the public comment period and revise the modifications to the TMDLs where appropriate. EPA will then forward the modified TMDLs to the Louisiana Department of Environmental Quality (LDEQ). LDEQ will incorporate the modified TMDLs into its current water quality management plan.

Dated: December 9, 2002.
Miguel I. Flores,
Director, Water Quality Protection Division, Region 6.

[FR Doc. 02-31678 Filed 12-16-02; 8:45 am]

BILLING CODE 6560-50-P